DEPARTMENT OF ENERGY

Federal Energy Regulatory Commission

[Project No. 5307-004]

Green Mountain Power Corporation, Hydro Power, LLC; Notice of Transfer of Exemption

1. On February 1, 2021, Green Mountain Power Corporation, exemptee for the Woodsville Hydroelectric Project No. 5307, filed a letter notifying the Commission that the project was transferred from Green Mountain Power Corporation to Hydro Power, LLC. The exemption from licensing was originally issued on February 5, 1982.¹ The project is located on the Ammonoosuc River, Grafton County, New Hampshire. The transfer of an exemption does not require Commission approval.

¹ New England Hydro, Inc., and Woodsville Fire District, 18 FERC 62,158 (1982). On June 27, 2017, the project was transferred to Green Mountain Power Corporation.

2. Hydro Power, LLC is now the exemptee of the Woodsville Hydroelectric Project No. 5307. All correspondence must be forwarded to: Mr. Brandon L. Boudreau, 87 Factory Street, St. Johnsbury, VT 05819, Email: Brandon@FairBanksMill.com.

Dated: February 24, 2021.
Kimberly D. Bose,
Secretary.

[FR Doc. 2021-04259 Filed 3-1-21; 8:45 am]

BILLING CODE 6717-01-P